DEPARTMENT OF HOUSING AND URBAN DEVELOPMENT

[Docket No. FR-5332-FA-03]

Announcement of Funding Awards for HUD's Fiscal Year 2009 Rental Assistance for Non-Elderly Persons With Disabilities

AGENCY: Office of the Assistant Secretary for Public and Indian Housing, HUD.

ACTION: Announcement of Funding Awards.

SUMMARY: In accordance with Section 102(a)(4)(C) of the Department of Housing and Urban Development Reform Act of 1989, this announcement notifies the public of funding decisions made by the Department for funding under the FY 2009 Notice of Funding Availability (NOFA) for the Rental Assistance for Non-Elderly Persons with Disabilities. This announcement contains the consolidated names and addresses of those award recipients selected for funding based on the funding criteria established in the NOFA.

FOR FURTHER INFORMATION CONTACT: Darrin C. Dorsett, Grant Management Center, Office of Public and Indian Housing, Department of Housing and Urban Development, 451 Seventh Street SW., B133 Potomac Center, 3rd Floor, Washington, DC, 20410 telephone number 202-475-8861. For the hearing or speech impaired, these numbers may be accessed via TTY (text telephone) by calling the Federal Relay Service at 800-877-8339. (Other than the “800” TTY number, these telephone numbers are not toll-free.)

SUPPLEMENTARY INFORMATION: This program is intended to provide incremental Section 8 Housing Choice Vouchers (HCVs) for non-elderly disabled families served by Public Housing Authorities with demonstrated experience and resources for supportive services. Vouchers provided under this program will enable non-elderly disabled families to access affordable housing, and enable non-elderly persons with disabilities to transition from nursing homes and other health-care institutions into the community.

On April 7, 2010, HUD posted its Notice of Funding Availability (NOFA) for the Rental Assistance for Non-Elderly Persons with Disabilities for Fiscal Year 2009. The NOFA addressed comments submitted in response to HUD's proposed Rental Assistance for Non-Elderly Persons with Disabilities NOFA published in the Federal Register on June 22, 2009 (74 FR 29504). The NOFA made approximately $40 million available under the Departments of Veteran Affairs and Housing and Urban Development, and Independent Agencies Appropriations Act, 2008 (Pub. L. 110-161). The allocation of housing assistance budget authority is pursuant to the provisions of 24 CFR part 791, subpart D, implementing section 213 (d) of the Housing and Community Development Act of 1974, as amended.

The Fiscal Year 2009 awards announced in this Notice were selected for funding in a competition announced in the NOFA posted on April 7, 2010. In accordance with Section 102(a)(4)(C) of the Department of Housing and Urban Development Reform Act of 1989 (103 Stat. 1987, 42 U.S.C. 3545), the Department is publishing the names, addresses, and amounts of the 74 awards (totaling $40,082,396) made under the Rental Assistance for Non-Elderly Persons with Disabilities competition.

Dated: February 24, 2012
Sandra B. Henriquez,
Assistant Secretary for Public and Indian Housing.

Appendix A

Fiscal Year 2009 Fundng Awards for the Rental Assistance for Non-Elderly Persons with Disabilities
Recipient | Address | City | State | Zip code | Category | Amount | Vouchers
Pima County c/o City of Tucson | P.O. Box 27210, 310 North Commerce Park Loop Road | Tucson | AZ | 85276 | Funded-Category 2 | $158,601 | 25
City of Anaheim Housing Authority | 201 South Anaheim Boulevard, Suite 203 | Anaheim | CA | 92805 | Funded-Category 1 | 1,081,464 | 100
Housing Authority City of Napa | 1115 Seminary Street | Napa | CA | 94559 | Funded-Category 1 | 784,584 | 100
Housing Authority of the City of Santa Ana | P.O. Box 22030 | Santa Ana | CA | 92702 | Funded-Category 1 | 1,071,816 | 100
Housing Authority of the City of Santa Barbara | 808 Laguna Street | Santa Barbara | CA | 93101 | Funded-Category 1 | 1,060,692 | 100
Housing Authority of the County of Alameda | 22941 Atherton Street | Hayward | CA | 94541 | Funded-Category 2 | 129,146 | 10
Housing Authority of the County of Santa Barbara | 815 West Ocean Avenue | Lompoc | CA | 93436 | Funded-Category 2 | 227,334 | 25
Housing Authority of the County of Santa Clara | 505 West Julian Street | San Jose | CA | 95110 | Funded-Category 2 | 143,039 | 10
Imperial Valley Housing Authority | 1401 D Street | Brawley | CA | 92227 | Funded-Category 1 | 434,712 | 100
Orange County Housing Authority | 1770 North Broadway | Santa Ana | CA | 92706 | Funded-Category 2 | 459,792 | 50
Pasadena Community Development Commission | 649 North Fair Oaks Avenue, Suite 202 | Pasadena | CA | 91103 | Funded-Category 2 | 331,608 | 40
Pasadena Community Development Commission | 649 North Fair Oaks Avenue, Suite 202 | Pasadena | CA | 91103 | Funded-Category 1 | 497,412 | 60
Roseville Housing Authority | 311 Vernon Street | Roseville | CA | 95678 | Funded-Category 1 | 484,020 | 75
Fort Collins Housing Authority | 1715 West Mountain Avenue | Fort Collins | CO | 80521 | Funded-Category 1 | 763,848 | 100
Housing Authority City of Boulder dba Boulder Housing Partnership | 4800 Broadway | Boulder | CO | 80304 | Funded-Category 1 | 763,572 | 100
District of Columbia Housing Authority | 1133 North Capitol Street, North East | Washington | DC | 20002 | Funded-Category 1 | 2,529,288 | 200
Collier County Housing Authority | 1800 Farm Worker Way | Immokalee | FL | 34142 | Funded-Category 2 | 199,812 | 25
Housing Authority of the City of Fort Pierce | 707 North 7th Street | Fort Pierce | FL | 34950 | Funded-Category 1 | 706,440 | 100
The Housing Authority of the City of Titusville | 524 South Hopkins Avenue | Titusville | FL | 32796 | Funded-Category 1 | 320,784 | 50
Housing Authority of the City of Decatur, Georgia | 750 Commerce Drive, Suite 110 | Decatur | GA | 30030 | Funded-Category 2 | 260,287 | 35
Idaho Housing and Finance Association | P.O. Box 7899, 565 West Myrtle Street | Boise | ID | 83707 | Funded-Category 1 | 904,968 | 200
Housing Authority of the Village of Oak Park | 21 South Boulevard | Oak Park | IL | 60302 | Funded-Category 2 | 120,323 | 15
Springfield Housing Authority | 200 North Eleventh Street | Springfield | IL | 62703 | Funded-Category 2 | 48,455 | 10
Cumberland Valley Regional Housing Authority | 338 Court Square | Barbourville | KY | 40906 | Funded-Category 1 | 403,680 | 100
Kentucky Housing Corporation | 1231 Louisville Road | Frankfort | KY | 40601 | Funded-Category 1 | 732,510 | 150
Brockton Housing Authority | P.O. Box 7070, 45 Goddard Road | Brockton | MA | 2303 | Funded-Category 1 | 1,037,904 | 100
Lynn Housing Authority & Neighborhood Development | 10 Church Street | Lynn | MA | 1902 | Funded-Category 2 | 334,307 | 35
Lynn Housing Authority & Neighborhood Development | 10 Church Street | Lynn | MA | 1902 | Funded-Category 1 | 620,857 | 65
Malden Housing Authority | 630 Salem Street | Malden | MA | 2148 | Funded-Category 1 | 577,332 | 50
Baltimore County Department of Social Services Housing Office | 6401 York Road | Baltimore | MD | 21212 | Funded-Category 2 | 412,884 | 50
Carroll County, Commissioners of | 225 North Center Street | Westminster | MD | 21157 | Funded-Category 1 | 836,628 | 100
Housing Authority of Baltimore City | 417 East Fayette Street | Baltimore | MD | 21202 | Funded-Category 2 | 376,752 | 40
Housing Opportunities Commission of Montgomery County, MD | 10400 Detrick Avenue | Kensington | MD | 20895 | Funded-Category 1 | 2,063,597 | 160
Howard County Housing Commission | 6751 Columbia Gateway Drive, 3rd Floor | Columbia | MD | 21046 | Funded-Category 2 | 122,759 | 10
Maryland Department of Housing and Community Development | 100 Community Place | Crownsville | MD | 21032 | Funded-Category 2 | 85,226 | 12
Traverse City Housing Commission | 10200 East Carter Centre | Traverse | MI | 49684 | Funded-Category 2 | 56,714 | 10
Housing & Redevelopment Authority of Todd County | 300 Linden Avenue South | Browerville | MN | 56438 | Funded-Category 1 | 73,689 | 25
Chatham County Housing Authority | P.O. Box 637, 190 Sanford Road | Pittsboro | NC | 27312 | Funded-Category 1 | 332,820 | 50
Gastonia Housing Authority | P.O. Box 2398, 340 West Long Avenue | Gastonia | NC | 28053 | Funded-Category 1 | 586,200 | 100
Housing Authority of the City of Wilmington, N. C. | 1524 South 16th Street | Wilmington | NC | 28401 | Funded-Category 2 | 29,253 | 5
Kearney Housing Authority | P.O. Box 1236, 2715 Avenue I | Kearney | NE | 68847 | Funded-Category 1 | 109,865 | 30
Keene Housing Authority | 831 Court Street | Keene | NH | 3431 | Funded-Category 1 | 876,288 | 100
Manchester Housing and Redevelopment Authority | 198 Hanover Street | Manchester | NH | 3104 | Funded-Category 1 | 812,736 | 100
Housing Authority of the City of Jersey City | 400 US Highway # 1 | Jersey City | NJ | 7306 | Funded-Category 1 | 1,826,760 | 200
Hunterdon, County of, Division of Housing | P.O. Box 2900, 8 Gauntt Place | Flemington | NJ | 8822 | Funded-Category 1 | 489,078 | 50
New Jersey Department of Community Affairs | P.O. Box 051, 101 South Broad Street | Trenton | NJ | 8625 | Funded-Category 2 | 936,420 | 100
Belmont Shelter Corp. as agent for Erie County PHA Consortium | 1195 Main Street | Buffalo | NY | 14209 | Funded-Category 2 | 91,555 | 20
City of Utica Section 8 Program | 1 Kennedy Plaza | Utica | NY | 13502 | Funded-Category 1 | 420,660 | 100
Athens Metropolitan Housing Authority | 10 Hope Drive | Athens | OH | 45701 | Funded-Category 1 | 450,804 | 100
Butler Metropolitan Housing Authority | 4110 Hamilton Middletown Road | Hamilton | OH | 45011 | Funded-Category 1 | 594,252 | 100
Cincinnati Metropolitan Housing Authority | 16 West Central Parkway | Cincinnati | OH | 45202 | Funded-Category 2 | 605,858 | 100
Fayette Metropolitan Housing Authority | 121 E. East Street | Washington CH | OH | 43160 | Funded-Category 1 | 212,202 | 50
Lorain Metropolitan Housing Authority | 1600 Kansas Avenue | Lorain | OH | 44055 | Funded-Category 1 | 592,068 | 100
Lucas Metropolitan Housing Authority | P.O. Box 477, 435 Nebraska Avenue | Toledo | OH | 43697 | Funded-Category 1 | 801,847 | 140
Lucas Metropolitan Housing Authority | P.O. Box 477, 435 Nebraska Avenue | Toledo | OH | 43697 | Funded-Category 2 | 343,649 | 60
Housing Authority of the County of Dauphin | 501 Mohn Street | Steelton | PA | 17113 | Funded-Category 2 | 60,376 | 10
Municipality of Vega Alta | P.O. Box 1390 | Vega Alta | PR | 692 | Funded-Category 1 | 256,128 | 50
Bristol Housing Authority | 1014 Hope Street | Bristol | RI | 2809 | Funded-Category 1 | 168,498 | 25
Warren Housing Authority | 20 Libby Lane | Warren | RI | 2885 | Funded-Category 1 | 180,993 | 25
Metropolitan Development and Housing Agency | 701 South Sixth Street | Nashville | TN | 37206 | Funded-Category 1 | 592,548 | 100
City of Amarillo | 509 East 7th | Amarillo | TX | 79105 | Funded-Category 1 | 289,087 | 53
Housing Authority of the City of Austin | P.O. Box 6159 | Austin | TX | 78762 | Funded-Category 2 | 300,158 | 36
Harrisonburg Redevelopment and Housing Authority | 286 Kelley Street | Harrisonburg | VA | 22802 | Funded-Category 1 | 557,820 | 100
Newport News Redevelopment and Housing Authority | 227 27th Street | Newport News | VA | 23607 | Funded-Category 1 | 371,022 | 50
Norfolk Redevelopment and Housing Authority | 201 Granby Street | Norfolk | VA | 23510 | Funded-Category 1 | 1,192,986 | 150
Portsmouth Redevelopment and Housing Authority | 801 Water Street, 2nd Floor | Portsmouth | VA | 23704 | Funded-Category 1 | 819,903 | 93
PWC, Office of Housing and Community Development | 15941 Donald Curtis Drive, Suite 112 | Woodbridge | VA | 22191 | Funded-Category 1 | 840,882 | 70
Barre Housing Authority | 4 Humbert Street | Barre | VT | 5641 | Funded-Category 1 | 287,220 | 50
Vermont State Housing Authority | One Prospect Street | Montpelier | VT | 5602 | Funded-Category 1 | 1,171,368 | 200
Housing Authority of Snohomish County | 12625 4th Avenue West, Suite 200 | Everett | WA | 98204 | Funded-Category 2 | 454,830 | 50
Housing Authority of the City of Longview | 1207 Commerce Avenue | Longview | WA | 98632 | Funded-Category 2 | 182,574 | 35
Housing Authority of the City of Tacoma | 902 South L Street | Tacoma | WA | 98405 | Funded-Category 2 | 874,200 | 100
Housing Authority of the City of Yakima | 810 North 6th Avenue | Yakima | WA | 98902 | Funded-Category 2 | 74,705 | 15
Housing Authority of the County of Clallam | 2603 South Francis Street | Port Angeles | WA | 98362 | Funded-Category 2 | 77,947 | 15

[FR Doc. 2012-5884 Filed 3-9-12; 8:45 am]

BILLING CODE 4210-67-P